DEPARTMENT OF DEFENSE

Department of the Army, Army Corps of Engineers

Federal Interagency Steering Committee on Multimedia Environmental Modeling Meeting

AGENCY: U.S. Army Corps of Engineers, DoD.

ACTION: Notice of open meeting.

SUMMARY: The annual public meeting of the Federal Interagency Steering Committee on Multimedia Environmental Modeling (ISCMEM) will convene to discuss some of the latest developments in environmental modeling applications, tools and frameworks, as well as new operational initiatives for FY 2016 among the participating agencies. The meeting this year will emphasize environmental modeling challenges in the California Bay Delta.

DATES: October 27-28, 2015, from 8 a.m. to 5 p.m.

ADDRESSES: Department of the Army, Corps of Engineers, Institute for Water Resources, 609 Second Street, Davis, CA 95616.

FOR FURTHER INFORMATION CONTACT: Inquiries and notice of intent to attend the meeting may be emailed to: Patrick Deliman, ISCMEM Chair, U.S. Army Corps of Engineers, Engineering Research And Development Center, CEERD-EZT, 3909 Halls Ferry Road, Vicksburg, MS 39046. TEL 601-634-3623. Patrick.N.Deliman@usace.army.mil.

SUPPLEMENTARY INFORMATION: Background: Nine Federal agencies have been cooperating under a Memorandum of Understanding (MOU) on the research and development of multimedia environmental models. The MOU, which was revised in 2012, continues an effort that began in 2001. It establishes a framework for facilitating cooperation and coordination among the following agencies (the specific research organization within the agency is in parentheses): National Science Foundation; U.S. Army Corps of Engineers (Engineer Research and Development Center); U.S. Department of Agriculture (Natural Resources Conservation Service); U.S. Department of Energy (Office of Biological and Environmental Research); U.S. Environmental Protection Agency; U.S. Geological Survey; U.S. National Oceanographic and Atmosphere Administration; U.S. Nuclear Regulatory Commission (Office of Nuclear Regulatory Research); and U.S. Bureau of Reclamation. These agencies are cooperating and coordinating in the research and development (R&D) of multimedia environmental models, software and related databases, including development, enhancements, applications and assessments of site specific, generic, and process-oriented multimedia environmental models as they pertain to human and environmental health risk assessment. Multimedia model development and simulation supports interagency interests in risk assessment, uncertainty analyses, water supply issues and contaminant transport.

Purpose of the Public Meeting: The annual public meeting and workshop provides an opportunity for the scientific community, other Federal and State agencies, and the public to be briefed on ISCMEM activities and their initiatives for the upcoming year, and to discuss technological advancements in multimedia environmental modeling.

Proposed Agenda: The ISCMEM Chair will open the meeting with a brief overview of the goals of the MOU and an update on current activities of ISCMEM. This introduction will be followed by a series of invited presentations starting on Wednesday morning, October 28, 2015, and ending on Thursday afternoon, October 29, 2015.

Meeting Access: The meeting will be available through Web Meeting Services. To obtain web access to the ISCMEM October 28-29 meeting and workshop, all interested attendees will need to pre-register by emailing Julie Marcy (Julie.B.Marcy@usace.army.mil) and Patrick Deliman (Patrick.N.Deliman@usace.army.mil), indicating their intent to participate in the meeting and providing their full contact information and affiliation.

Dated: September 17, 2015.
Patrick N. Deliman,
Chair, Federal Interagency Steering Committee on Multimedia Environmental Modeling.

[FR Doc. 2015-24172 Filed 9-22-15; 8:45 am]

BILLING CODE 3720-58-P